DEPARTMENT OF THE INTERIOR

National Park Service

Wildland Fire Management Plan, Environmental Impact Statement, Mesa Verde National Park, CO

AGENCY: National Park Service, Department of the Interior.

ACTION: Notice of intent to prepare an environmental impact statement for the Wildland Fire Management Plan, Mesa Verde National Park.

SUMMARY: Under the provisions of the National Environmental Policy Act of 1969, the National Park Service is preparing an environmental impact statement for a wildland fire management plan for Mesa Verde National Park. This effort will result in a new wildland fire management plan that meets current policies, provides a framework for making fire-related decisions, and serves as an operational manual. Much has changed in the park and within the agency since the park's current fire management plan was adopted in 1996. Since that time, Mesa Verde was subjected to three large catastrophic fires that have physically altered over 60% of the landscape. In addition, recent policy changes resulting from the 2000 National Fire Plan indicate that a new plan is necessary. The plan will be developed in consultation with local communities, other federal and state agencies, the 24 tribes legally associated with the park, including the neighboring Ute Mountain Ute Tribe, and all other interested and affected organizations and individuals. A range of alternatives will be developed through this planning process and will include a no-action alternative and all other reasonable alternatives. The alternatives will consider fuel condition, weather, air quality, natural and cultural resources, safety, and structure protection, and include a range of appropriate strategies including full fire suppression, fire use such as through prescribed fire, and mechanical fuels treatment such as removal of hazardous fuels. The plan will identify the agencies preferred alternative and the environmentally preferred alternative.

Issues to be addressed include the safety of the public, employees and firefighters; protection of natural and cultural resources; and the protection of rare, threatened and endangered species. Other issues include: allowing for natural processes in ecosystems and varied habitats; maintaining park values including protection of air quality, water quality, existing wilderness and visitor enjoyment; protecting structures and facilities within the park and on neighboring lands; addressing concerns of the 24 tribes associated with the park; addressing economic and other concerns of the park concessionaire, neighboring communities including local business and the Ute Mountain Ute tribe; and developing partnerships with other agencies, organizations, and local interests. The plan will also address the effects of emergency actions taken in response to recent fires and extreme lightning and weather conditions.

The scoping process will include public meetings to explain the planning process, solicit alternative ideas, and identify issues to be addressed in the plan. Specific dates, times and locations of the meetings will be announced in the local media and will also be available by contacting the Superintendent of Mesa Verde National Park. Information about the planning process as well as copies of the draft and final plans will be posted on the park's Web site at www.nps.gov/meve.

DATES: The public scoping process will be initiated from the date this notice is published in the Federal Register and will extend a minimum of 60 days.

ADDRESSES: Information will be available for public review and comment in the Mesa Verde Park Headquarters (970) 529-4465.

FOR FURTHER INFORMATION CONTACT: Larry Wiese, Superintendent, Mesa Verde National Park, P.O. Box 8, Mesa Verde, CO 81330, (970) 529-4465.

SUPPLEMENTARY INFORMATION: If you wish to provide input, you may submit your comments or questions by any one of several methods. Comments will be collected during the public meetings, or can be sent or hand delivered to: Larry Wiese, Superintendent, Mesa Verde National Park, P.O. Box 8, Mesa Verde, CO 81321. You may also comment via the Internet to MEVE_PLANNING@nps.gov. Please submit Internet comments as an ASCII file avoiding the use of special characters and any form of encryption. Please also include “Attn: Fire Management Plan” and your name and return address in your Internet message. If you do not receive a confirmation from the system that we have received your Internet message, contact us directly at (970) 529-4465. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Dated: May 15, 2002.
R. Everhart,
Deputy Director, Intermountain Region, National Park Service.

[FR Doc. 02-24069 Filed 9-20-02; 8:45 am]

BILLING CODE 4310-70-P